DEPARTMENT OF JUSTICE

Notice of Lodging of Proposed Consent Decree Under the Comprehensive Environmental Response, Compensation, and Liability Act (“CERCLA”)

On August 1, 2016, the Department of Justice lodged a proposed Consent Decree with the United States District Court for the District of Utah, Central Division, in a lawsuit entitled United States v. Silver Reef Properties, LLC, Case No. 2:13CV00280DB.

On April 19, 2013 the United States filed an action under Section 107(a) of the Comprehensive Environmental Response, Compensation, and Liability Act, 42 U.S.C. 9607(a) (“CERCLA”) seeking reimbursement of response costs incurred or to be incurred for response actions taken at or in connection with the release or threatened release of hazardous substances at the 5M Staging Area Superfund Site (“Site”), located approximately one mile northwest of Leeds, Utah in Section 1, Township 41 South, Range 14 West of the Salt Lake Meridian in the Silver Reef Mining District, located within the larger patented Jumbo Lodge mining claim. The Complaint also alleged claims under CERCLA Sections 106(b)(1) and 107(c)(3) for penalties and punitive damages for failure to comply with a Unilateral Administrative Order at the Site. Under the proposed Consent Decree, Silver Reef Properties, LLC (“Defendant”) is required to (1) sell all remaining real property assets with 90% of the sale proceeds to be paid towards the United States' unreimbursed Site response costs up to a judgment amount of $477,547.43, and (2) record an environmental covenant protecting the remedy at the Site. The proposed Consent Decree will resolve all CERCLA claims alleged in this action by the United States against Defendant. Defendant has an inability to pay the United States' full demand.

The publication of this notice opens a period for public comment on the proposed Consent Decree. Comments should be addressed to the Assistant Attorney General, Environment and Natural Resources Division, Environmental Enforcement Section, and should refer to United States v. Silver Reef Properties, LLC, D.J. Ref. No. 90-11-3-10255. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, D.C. 20044-7611

During the public comment period, the proposed Consent Decree may be examined and downloaded at this Justice Department Web site: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $15 (25 cents per page reproduction cost) for the proposed Consent Decree payable to the United States Treasury. For a paper copy without the appendices, the cost is $7.50.

Jeffrey K. Sands,
Assistant Section Chief, Environmental Enforcement Section, Environment and Natural Resources Division.

[FR Doc. 2016-18712 Filed 8-5-16; 8:45 am]

BILLING CODE 4410-15-P